DEPARTMENT OF ENERGY

Federal Energy Regulatory Commission

Combined Notice of Filings #2

Take notice that the Commission received the following electric rate filings:

Docket Numbers: ER13-277-001.

Applicants: DTE Electric Company.

Description: Deficiency Filing to be effective 1/1/2013.

Filed Date: 1/10/13.

Accession Number: 20130110-5035.

Comments Due: 5 p.m. ET 1/31/13.

Docket Numbers: ER13-737-000.

Applicants: PJM Interconnection, L.L.C.

Description: Notice of Cancellation of Second Revised SA Nos. 3154 and 3155—ER12-2503-000 to be effective 11/27/2012.

Filed Date: 1/10/13.

Accession Number: 20130110-5025.

Comments Due: 5 p.m. ET 1/31/13.

Docket Numbers: ER13-738-000.

Applicants: DTE Electric Company.

Description: Notice of Succession to be effective 1/1/2013.

Filed Date: 1/10/13.

Accession Number: 20130110-5044.

Comments Due: 5 p.m. ET 1/31/13.

Docket Numbers: ER13-739-000.

Applicants: Texpo Power, LP.

Description: New filing 1 to be effective 1/11/2013.

Filed Date: 1/10/13.

Accession Number: 20130110-5045.

Comments Due: 5 p.m. ET 1/31/13.

Docket Numbers: ER13-740-000.

Applicants: EnerPenn USA LLC.

Description: New Filing 1 to be effective 1/11/2013.

Filed Date: 1/10/13.

Accession Number: 20130110-5046.

Comments Due: 5 p.m. ET 1/31/13.

Docket Numbers: ER13-741-000.

Applicants: Bangor Hydro Electric Company, ISO New England Inc.

Description: Bangor Hydro Electric Company submits tariff filing per 35.13(a)(2)(iii: Oakfield Large Generator Interconnection Agreement to be effective 3/2/2013.

Filed Date: 1/10/13.

Accession Number: 20130110-5055.

Comments Due: 5 p.m. ET 1/31/13.

Docket Numbers: ER13-742-000.

Applicants: Southwest Power Pool, Inc.

Description: Southwest Power Pool, Inc. submits tariff filing per 35.13(a)(2)(iii: 2513 Generation Energy, Inc. GIA to be effective 12/14/2012.

Filed Date: 1/10/13.

Accession Number: 20130110-5058.

Comments Due: 5 p.m. ET 1/31/13.

Docket Numbers: ER13-743-000.

Applicants: PacifiCorp.

Description: PacifiCorp submits tariff filing per 35.15: Termination of BPA Umpqua Business Center Construction Agreement to be effective 3/14/2013.

Filed Date: 1/10/13.

Accession Number: 20130110-5060.

Comments Due: 5 p.m. ET 1/31/13.

Docket Numbers: ER13-744-000.

Applicants: Southwest Power Pool, Inc.

Description: Southwest Power Pool, Inc. submits tariff filing per 35.13(a)(2)(iii: Submission of Notice of Cancellation of 2432 TPW Madison, LLC to be effective 12/6/2012.

Filed Date: 1/10/13.

Accession Number: 20130110-5065.

Comments Due: 5 p.m. ET 1/31/13.

Docket Numbers: ER13-745-000.

Applicants: Southwest Power Pool, Inc.

Description: Southwest Power Pool, Inc. submits tariff filing per 35.13(a)(2)(iii: 2299R1 Rattlesnake Creek Wind Project, LLC GIA to be effective 12/12/2012.

Filed Date: 1/10/13.

Accession Number: 20130110-5089.

Comments Due: 5 p.m. ET 1/31/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 10, 2013.
Nathaniel J. Davis, Sr.,
Deputy Secretary.

[FR Doc. 2013-00981 Filed 1-17-13; 8:45 am]

BILLING CODE 6717-01-P